DEPARTMENT OF TRANSPORTATION

Federal Aviation Administration

14 CFR Parts 1, 25, and 97

[Docket No. FAA-2002-13982; Amendment Nos. 1-49, 25-208, 97-1333]

RIN 2120-AD40

1-g Stall Speed as the Basis for Compliance With Part 25 of the Federal Aviation Regulations; Correction

AGENCY: Federal Aviation Administration (FAA), DOT.

ACTION: Final rule, correction.

SUMMARY: In the November 26, 2002, issue of the Federal Register, the FAA published a final rule regarding 1-g stall speed as a basis for compliance with part 25 of the Federal Aviation Regulations (67 FR 70812). The final rule, as published, erroneously contained a former docket number. It contained an erroneous reference to a publication of a notice of proposed advisory circular revisions. It also contained a change to a part 25 section that was previously changed by an earlier amendment, and is therefore moot to this rulemaking. This document serves to correct these errors.

EFFECTIVE DATE: December 26, 2002.

FOR FURTHER INFORMATION CONTACT: Don Stimson, telephone (425) 227-1129.

SUPPLEMENTARY INFORMATION:

Background

These amendments are based on notice of proposed rulemaking (NPRM) Notice No. 95-17, which was published in the Federal Register on January 18, 1996 (61 FR 1260), FAA Docket No. 28404. The final rule, published November 26, 2002 at 67 FR 70812, should have been given a new docket number, based on the fact that the FAA now uses the Department of Transportation's Docket Management System (DMS) instead of the former FAA Docket System. The FAA transitioned to a new DMS maintained by the Department of Transportation during the course of this final rulemaking. At earlier stages of the rulemaking, the FAA Docket Number was 28404. Under the new DMS, the docket number is FAA-2002-13982. The final rule, as published, erroneously used the old, FAA docket number instead of the new DMS docket number.

The final rule docket erroneously made a reference to the publication (on November 12, 2002) of a notice of proposed advisory revisions. The advisory circular revisions have not yet been published and the document should have read that a notice of proposed advisory circular revisions will be published in the Federal Register shortly after publication of this final rule.

The final rule document contained a change to § 25.735, Brakes and braking systems, which was previously changed with Amendment 25-107. Therefore, the change made in this final rule document was unnecessary, and the appropriate text is reinstated.

Correction to Preamble of Final Rule

Document Number 02-29667, Amendment Nos. 1-49, 25-108, 97-133, published in the Federal Register on November 26, 2002 (67 FR 70812), is corrected as follows:

1. On page 70812, in the first column, fourth line, change “Docket No. 28404” to read “Docket No. FAA-2002-13982.”

2. On page 78017, in the second column, fourth line, revise the last sentence of the paragraph to read: “A notice of proposed advisory circular revisions will be published in the Federal Register shortly after publication of this final rule.”

Correcting Amendment to 14 CFR Part 25

PART 25—AIRWORTHINESS STANDARDS: TRANSPORT CATEGORY AIRPLANES

1. The authority citation for part 25 continues to read as follows:

Authority: 49 U.S.C. 106(g), 40113, 44701, 44702 and 44704.

2. Section 25.735 is corrected by revising paragraphs (f)(2) and (g) to read as follows:

§ 25.735 Brakes and braking systems.

* * * * *

(f) * * *

(2) Maximum kinetic energy accelerate-stop. The maximum kinetic energy accelerate-stop is a rejected takeoff for the most critical combination of airplane takeoff weight and speed. The accelerate-stop brake kinetic energy absorption requirement of each wheel, brake, and tire assembly must be determined. It must be substantiated by dynamometer testing that the wheel, brake, and tire assembly is capable of absorbing not less than this level of kinetic energy throughout the defined wear range of the brake. The energy absorption rate derived from the airplane manufacturer's braking requirements must be achieved. The mean deceleration must not be less than 6 fps \2\.

* * * * *

(g) Brake condition after high kinetic energy dynamometer stop(s). Following the high kinetic energy stop demonstration(s) required by paragraph (f) of this section, with the parking brake promptly and fully applied for at least 3 minutes, it must be demonstrated that for at least 5 minutes from application of the parking brake, no condition occurs (or has occurred during the stop), including fire associated with the tire or wheel and brake assembly, that could prejudice the safe and complete evacuation of the airplane.

* * * * *

Issued in Washington, DC, on January 6, 2002.
Donald P. Byrne,
Assistant Chief Counsel for Regulations.

[FR Doc. 03-656 Filed 1-14-03; 8:45 am]

BILLING CODE 4910-13-M